FEDERAL COMMUNICATIONS COMMISSION

Open Commission Meeting, Thursday, August 3, 2017

July 27, 2017.

The Federal Communications Commission will hold an Open Meeting on the subjects listed below on Thursday, August 3, 2017 which is scheduled to commence at 10:30 a.m. in Room TW-C305, at 445 12th Street SW., Washington, DC.

Item No. | Bureau | Subject
1 | Wireline Competition | Title: Connect America Fund Phase II Auction (Auction 903), (AU Docket No. 17-182).
|  | Summary: The Commission will consider a Public Notice to initiate the pre-auction process for the Connect America Fund Phase II auction which will award up to $1.98 billion over 10 years to service providers that commit to offer voice and broadband services to fixed locations in unserved high-cost areas.
2 | Wireless Telecommunications | Title: Connect America Fund (WC Docket No. 10-90); Universal Service Reform—Mobility Fund (WT Docket No. 10-208).
|  | Summary: The Commission will consider an Order on Reconsideration and Second Report and Order that lays out a robust challenge process that will enable the Commission to direct Mobility Fund Phase II support to primarily rural areas that lack unsubsidized 4G Long Term Evolution (LTE) service.
3 | Wireline Competition | Title: Modernizing the FCC Form 477 Data Program (WC Docket No. 11-10).
|  | Summary: The Commission will consider a Further Notice of Proposed Rulemaking that takes a focused look at the Commission's Form 477 to improve the value of the data we continue to collect.
4 | Wireless Telecommunications | Title: Expanding Flexible Use in Mid-Band Spectrum Between 3.7 and 24 GHz (GN Docket No. 17-183).
|  | Summary: The Commission will consider a Notice of Inquiry that explores opportunities for next generation services—particularly for wireless broadband—in the 3.7 GHz to 24 GHz spectrum range and asks about how we can increase efficient and effective use of this spectrum for the benefit of all services and users.
5 | Wireless Telecommunications | Title: Video Description: Implementation of the Twenty-First Century Communications and Video Accessibility Act of 2010 (MB Docket No. 11-43).
|  | Summary: The Commission will consider a Report and Order which increases the required hours of video described programming that covered broadcast stations and MVPDs must provide to consumers.
6 | International | Title: Implementation of Section 25.281(b) Transmitter Identification Requirements for Video Uplink Transmissions (IB Docket No. 12-267).
|  | Summary: The Commission will consider a Memorandum Opinion and Order that waives the requirement that satellite news trucks, and other temporary-fixed satellite earth stations transmitting digital video, comply with the Digital Video Broadcasting-Carrier Identification (DVB-CID) standard if the earth station uses a modulator that cannot meet the DVB-CID standard through a software upgrade.
7 | Media | Title: Hearing Designation Order.
|  | Summary: The Commission will consider a Hearing Designation Order.
8 | Enforcement | Title: Enforcement Bureau Action.
|  | Summary: The Commission will consider an enforcement action.
* * * * * * *
Consent Agenda
The Commission will consider the following subject listed below as a consent agenda and this item will not be presented individually:
1 | Enforcement | Title: Enforcement Bureau Action.
|  | Summary: The Commission will consider an enforcement action.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live web page at www.fcc.gov/live.

For a fee this meeting can be viewed live over George Mason University's Capitol Connection. The Capitol Connection also will carry the meeting live via the Internet. To purchase these services, call (703) 993-3100 or go to www.capitolconnection.gmu.edu.

Federal Communications Commission.
Katura Jackson,
Federal Register Liaison Officer, Office of the Secretary.

[FR Doc. 2017-16474 Filed 8-3-17; 8:45 am]

BILLING CODE 6712-01-P